SECURITIES AND EXCHANGE COMMISSION

Sunshine Act Meeting

Notice is hereby given, pursuant to the provisions of the Government in the Sunshine Act, Pub. L. 94-409, that the Securities and Exchange Commission will hold the following meetings during the week of July 19, 2004:

Closed Meetings will be held on Tuesday, July 20, 2004 at 2 p.m., and Thursday, July 22, 2004 at 2:00 p.m.

Commissioners, Counsel to the Commissioners, the Secretary to the Commission, and recording secretaries will attend the Closed Meetings. Certain staff members who have an interest in the matter may also be present.

The General Counsel of the Commission, or his designee, has certified that, in his opinion, one or more of the exemptions set forth in 5 U.S.C. 552b(c)(3), (5), (7), (8), (9)(B), and (10) and 17 CFR 200.402(a)(3), (5), (7), (8), 9(ii) and (10), permit consideration of the scheduled matters at the Closed Meetings.

Commissioner Atkins, as duty officer, voted to consider the item listed for the closed meetings in a closed session and determined that no earlier notice thereof was possible.

The subject matter of the Closed Meeting scheduled for Tuesday, July 20, 2004 will be:

Formal orders of investigations;

Institution and settlement of an injunctive action;

Institution of an administrative proceeding of an enforcement nature; and

Regulatory matter regarding a financial institution.

The subject matter of the Closed Meeting scheduled for Tuesday, July 22, 2004 will be:

Formal orders of investigations;

Institution and settlement of injunctive actions; and

Institution and settlement of an administrative proceeding of an enforcement nature.

At times, changes in Commission priorities require alterations in the scheduling of meeting items. For further information and to ascertain what, if any, matters have been added, deleted or postponed, please contact:

The Office of the Secretary at (202) 942-7070.

Dated: July 13, 2004.
Jonathan G. Katz,
Secretary.

[FR Doc. 04-16263 Filed 7-13-04; 4:00 pm]

BILLING CODE 8010-01-P